DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2004, there were 11 applications approved. This notice also includes information on two applications, one approved in November 2002, and the other approved in October 2003, inadvertently left off the November 2002 and October 2003 notices, respectively. Additionally, three approved amendments to previously approved applications are listed.

SUMMARY: The FAA publishes a monthly notice, as appropriate, of PFC approvals and disapprovals under the provisions of the Aviation Safety and Capacity Expansion Act of 1990 (Title IX of the Omnibus Bus Reconciliation Act of 1990) (Pub. L. 101-508) and Part 158 of the Federal Aviation Regulations (14 CFR Part 158). This notice is published pursuant to paragraph d of § 158.29.

PFC Applications Approved

Public Agency: City of Portland, Maine.

Application Number: 02-03-C-00-PWM.

Application Type: Impose and use a PFC.

PFC Level: $3.00.

Total PFC Revenue Approved in this Decision: $14,214,483.

Earliest Charge Effective Date: February 1, 2004.

Estimated Charge Expiration Date: December 1, 2010.

Class of Air Carriers Not Required to Collect PFC's: Air taxi/commercial operators.

Determination: Approved. Based on information contained in the public agency's application, the FAA has determined that the approved class accounts for less than 1 percent of the total annual enplanements at Portland International Jetport.

Brief Description of Projects Approved for Collection and Use:

Terminal canopy completion.

Passenger boarding bridge acquisition.

Passenger boarding bridge—regional jet modifications.

Runway 11/29 upgrade/relocation.

Taxiway improvements.

Terminal roadway system expansion.

Snow removal equipment acquisition.

PFC application preparation and program administration.

Brief Description of Projects Approved for Collection: Baggage claim expansion and improvements.

Decision Date: November 29, 2002.

FOR FURTHER INFORMATION CONTACT: Priscilla Scott, New England Region Airports Division, (718) 238-7614.

Public Agency: Broome County Department of Aviation, Binghamton, New York.

Application Number: 03-06-C-00-BGM.

Application Type: Impose and use a PFC.

PFC Level: $4.50.

Total PFC Revenue Approved in this Decision: $7,996.

Earliest Charge Effective Date: February 1, 2005.

Estimated Charge Expiration Date: March 1, 2005.

Class of Air Carriers Not Required to Collect PFC's. Part 135 (air taxi) operators.

Determination: Approved. Based on information contained in the public agency's application, the FAA has determined that the approved class accounts for less than 1 percent of the total annual enplanements at Greater Binghamton Airport.

Brief Description of Projects Approved for Use:

Aircraft rescue and firefighting facility refurbishment.

Passenger boarding bridge purchase.

Brief Description of Projects Approved for Collection and Use:

Airport security access control system enhancement.

Airport security fence improvements.

Decision Date: October 9, 2003.

FOR FURTHER INFORMATION CONTACT: Robert Levine, New York Airports District Office, (516) 227-3807.

Public Agency: City of Klamath Falls, Oregon.

Application Number: 03-02-C-00-LMT.

Application Type: Impose and use a PFC.

PFC Level: $4.50.

Total PFC Revenue Approved in this Decision: $877,799.

Earliest Charge Effective Date: August 1, 2004.

Estimated Charge Expiration Date: December 1, 2011.

Class of Air Carriers Not Required to Collect PFC'S: None.

Brief Description of Projects Approved for Collection and Use:

Runway safety area design and construction.

Construct northwest apron.

Master plan.

Parking expansion.

Security improvements.

Acquire security equipment.

Rehabilitation of west side apron including associated taxiway.

Decision Date: February 2, 2004.

FOR FURTHER INFORMATION CONTACT: Suzanne Lee-Pang, Seattle Airports District Office, (425) 227-2654.

Public Agency: Cedar Rapids Airport Commission, Cedar Rapids, Iowa.

Application Number: 04-03-C-00-CID.

Application Type: Impose and use a PFC.

PFC Level: $4.50.

Total PFC Revenue Approved in this Decision: $4,182,615.

Earliest Charge Effective Date: May 1, 2004.

Estimated Charge Expiration Date: July 1, 2006.

Class of Air Carriers Not Required to Collect PFC'S: Part 135 air taxi/commercial operators.

Determination: Approved. Based on information contained in the public agency's application, the FAA has determined that the approved class accounts for less than 1 percent of the total annual enplanements at Eastern Iowa Airport.

Brief Description of Projects Approved for Collection and Use:

Acquire two snow removal end loaders.

Rehabilitate runway 13/31.

Extend south end of runway 13/31.

Improve north end of runway 13/31 safety area and relocate road.

Extend north of runway 13/31 and construct taxiway F connection.

Improve east end of runway 9/27 safety area.

Reconstruct T-hangar taxiways and general aviation aprons.

Construct runway and taxiways overlay.

Construct cargo ramp expansion, phase I.

Construct terminal and cargo ramp expansion and rehabilitation, phase II.

Construct cargo apron.

Rehabilitate cargo apron, phase III.

Rehabilitate cargo apron, phase IV.

Decision Date: February 6, 2004.

FOR FURTHER INFORMATION CONTACT: Nicoletta S. Oliver, Central Region Airports Division, (816) 329-2642.

Public Agency: Jackson Hole Airport Board, Jackson, Wyoming.

Application Number: 04-09-C-00-JAC.

Application Type: Impose and use a PFC.

PFC Level: $4.50.

Total PFC Revenue Approved in this Decision: $1,814,693.

Earliest Charge Effective Date: November 1, 2004.

Estimated Charge Expiration Date: November 1, 2008.

Class of Air Carriers Not Required to Collect PFC's: None.

Brief Description of Projects Approved for Collection and Use:

Terminal building expansion.

Landside improvements.

Noise monitoring system and Part 150 update.

Runway threshold lighting.

Security improvements.

Decision Date: February 9, 2004.

FOR FURTHER INFORMATION CONTACT: Christopher Schaffer, Denver Airports District Office, (303) 342-1258.

Public Agency: County of Mercer, West Trenton, New Jersey.

Application Number: 04-02-C-00-TTN.

Application Type: Impose and use a PFC.

PFC Level: $4.50.

Total PFC Revenue Approved in this Decision: $1,061,436.

Earliest Charge Effective Date: May 1, 2004.

Estimated Charge Expiration Date: May 1, 2011.

Class of Air Carriers Not Required to Collect PFC's: Nonscheduled/on-demand air carriers filing FAA Form 1800-31.

Determination: Approved. Based on information contained in the public agency's application, the FAA has determined that the approved class accounts for less than 1 percent of the total annual enplanements at Trenton-Mercer Airport.

Brief Description of Projects Approved for Collection and Use:

Construct taxiway E—construction only.

Airport planning studies.

Acquire aircraft rescue and firefighting safety equipment.

Install apron lighting.

Acquire airport snow sweeper.

Install airfield guidance signage.

Construct taxiway G.

Remove obstructions—runway 24 runway protection zone.

Improve terminal building.

Improve runway 6/24.

Rehabilitate taxiways A, C and a portion of D.

Rehabilitate runway 16/34.

Conduct environmental assessment.

Acquire aircraft rescue and firefighting vehicles.

Improve runway safety areas, phase I.

Security enhancements.

Design snow removal building, phase I.

PFC application services.

Decision Date: February 10, 2004.

FOR FURTHER INFORMATION CONTACT: Dan Vornea, New York Airports District Office, (516) 227-3812.

Public Agency: Indian Wells Valley Airport District, Inyokern, California.

Application Number: 04-04-C-00-IYK.

Application Type: Impose and use a PFC.

PFC Level: $3.00.

Total PFC Revenue Approved in this Decision: $36,183.

Earliest Charge Effective Date: April 1, 2004.

Estimated Charge Expiration Date: October 1, 2004.

Class of Air Carriers Not Required to Collect PFC's: Nonscheduled/on-demand air carriers filing FAA Form 1800-31.

Determination: Approved. Based on information contained in the public agency's application, the FAA has determined that the approved class accounts for less than 1 percent of the total annual enplanements at Inyokern Airport.

Brief Description of Project Approved for Collection And Use:

Install security gates and rehabilitate pavement.

Decision Date: February 12, 2004.

FOR FURTHER INFORMATION CONTACT: David Delshad, Western Pacific Region Airports Division, (310) 725-3627.

Public Agency: City of Springfield Airport Board, Springfield, Missouri.

Application Number: 03-04-C-00-SGF.

Application Type: Impose and use a PFC.

PFC Level: $4.50.

Total PFC Revenue Approved in this Decision: $1,847,000.

Earliest Charge Expiration Date: May 1, 2004.

Estimated Charge Expiration Date: August 1, 2005.

Class of Air Carriers Not Required to Collect PFC's: Nonscheduled Part 135 and air taxi operators.

Determination: Approved. Based on information contained in the public agency's application, the FAA has determined that the approved class accounts for less than 1 percent of the total annual enplanements at Springfield-Branson Regional Airport.

Brief Description of Projects Approved for Collection and Use:

Design midfield terminal.

Purchase and install loading bridge.

Modify existing loading bridges (four).

PFC consulting fees.

Brief Description of Withdrawn Projects:

Acquire land for midfield terminal.

Determination: This project was withdrawn by the public agency by letter dated December 3, 2003.

Construct snow removal equipment building.

Construct taxiway T.

Determination: These projects were withdrawn by the public agency by letter dated August 13, 2003.

Decision Date: February 18, 2004.

FOR FURTHER INFORMATION CONTACT: Lorna Sandridge, Central Region Airports Division, (816) 329-2641.

Public Agency: Golden Triangle Regional Airport Authority, Columbus, Mississippi.

Application Number: 04-03-C-00-GTR.

Application Type: Impose and use a PFC.

PFC Level: $4.50.

Total PFC Revenue Approved in this Decision: $285,555.

Earliest Charge Effective Date: August 1, 2005.

Estimated Charge Expiration Date: October 1, 2007.

Class of Air Carriers Not Required to Collect PFC's: None.

Brief Description of Projects Approved for Collection and Use:

Construction of air traffic control tower.

Master plan/noise compatibility study.

Handicapped lift device.

Runway overlay, grooving, and marking.

Taxiway seal coat.

Reconstruction of general aviation ramp.

Decision Date: February 23, 2004.

FOR FURTHER INFORMATION CONTACT: David Shumate, Jackson Airports District Office, (601) 664-9882.

Public Agency: Niagara Frontier Transportation Authority, Buffalo, New York.

Application Number: 04-05-C-00-BUF.

Application Type: Impose and use a PFC.

PFC Level: $3.00.

Total PFC Revenue Approved in this Decision: $7,045,262.

Earliest Charge Effective Date: May 1, 2009.

Estimated Charge Expiration Date: April 1, 2010.

Class of Air Carriers Not Required to Collect PFC's: Air taxi/commercial operators filing FAA Form 1800-31.

Determination: Approved. Based on information contained in the public agency's application, the FAA has determined that the approved class accounts for less than 1 percent of the total annual enplanements at Buffalo Niagara International Airport.

Brief Description of Projects Approved for Collection and Use:

Design and construction, extension of runway 14/32.

Design and construction, extension, widening and rehabilitation of taxiway D.

Design and construction, extension and rehabilitation of runway 5/23.

Design and construction, extension and rehabilitation of taxiway A.

Design and construction, overhead canopies for pedestrian walkways.

Decision Date: February 23, 2004.

FOR FURTHER INFORMATION CONTACT: Philip Brito, New York Airports District Office, (516) 227-3800.

Public Agency: County of Westchester, Mount Vernon, New York.

Application Number: 04-02-I-00-HPN.

Application Type: Impose a PFC.

PFC Level: $4.50.

Total PFC Revenue Approved in this Decision: $20,200,000.

Earliest Charge Effective Date: May 1, 2004.

Estimated Charge Expiration Date: October 1, 2014.

Class of Air Carriers Not Required to Collect PFC's: Nonscheduled/on-demand air carriers filing FAA Form 1800-31.

Determination: Approved. Based on information contained in the public agency's application, the FAA has determined that the approved class accounts for less than 1 percent of the total annual enplanements at Westchester County Airport.

Brief Description of Project Approved for Collection:New deicing facilities.

Decision Date: February 25, 2004.

FOR FURTHER INFORMATION CONTACT: Dan Vornea, New York Airports District Office, (516) 227-3812.

Public Agency: Benedum Airport Authority, Clarksburg, West Virginia.

Application Number: 04-03-C-00-CKB.

Application Type: Impose and use a PFC.

PFC Level: $4.50.

Total PFC Revenue Approved in this Decision: $2,920,641.

Earliest Charge Effective Date: May 1, 2004.

Estimated Charge Expiration Date: May 1, 2054.

Class of Air Carriers Not Required to Collect PFC's: None.

Brief Description of Projects Approved for Collection and Use:

Terminal modifications.

Construct de-ice containment facility.

Construct run-up pad.

Install segmented circle/wind cone.

Runway extension (land acquisition).

Runway extension (construction).

Decision Date: February 25, 2004.

FOR FURTHER INFORMATION CONTACT: Matthew DiGiulian, Beckley Airports District Office, (304) 252-6216.

Public Agency: Metropolitan Nashville Airport Authority, Nashville, Tennessee.

Application Number: 04-11-C-00-BNA.

Application Type: Impose and use a PFC.

PFC Level: $3.00

Total PFC Revenue Approved in this Decision: $81,518,055.

Earliest Charge Effective Date: April 1, 2007.

Estimated Charge Expiration Date: May 1, 2014.

Class of Air Carriers Not Required to Collect PFC's: Part 135 air taxis.

Determination: Approved. Based on information contained in the public agency's application, the FAA has determined that the approved class accounts for less than 1 percent of the total annual enplanements at Nashville International Airport.

Brief Description of Projects Approved for Collection and Use:

Airfield construction.

Develop general aviation area south of Murfreesboro Road and east of runway 2C/20C.

Engineering study to develop land north of runway 13/31.

Relocate electrical vault on west side.

Storm water treatment facility engineering study and upgrade.

Widen taxiway fillets at taxiways L2, K2, T3, and Lima Kilo.

Runway 2C/20C extension (part B).

Noise mitigation.

Two elevators in terminal building.

Airfield pavement rehabilitation (phases 1, 2, 3, 4, and 5) and runway 2R/20L joint and crack repair.

Acquire aircraft rescue and firefighting equipment.

Acquire pavement sweeper.

Airfield re-signing.

Acquire snow removal equipment.

Brief Description of Disapproved Project:

Terminal ambulance.

Determination: The eligibility of emergency vehicles is limited to those vehicles required to meet Part 139 requirements. This vehicle is not a Part 136 requirement.

Decision Date: February 26, 2004.

FOR FURTHER INFORMATION CONTACT: Cynthia K. Wills, Memphis Airports District Office, (901) 322-8190.

Amendments to PFC Approvals
Amendment No. city, state | Amendment approved date | Original approved net PFC revenue | Amended approved net PFC revenue | Original estimated charge exp. date | Amended estimated charge exp. date
92-01-C-05-MCO Orlando, FL | 02/06/04 | $26,441,847 | $34,099,841 | 09/01/94 | 09/01/94
95-03-C-02-MCO Orlando, FL | 02/06/04 | $21,527,408 | $18,637,986 | 04/01/96 | 11/01/95
02-05-C-03-BGM Binghamton, NY | 02/24/04 | $4,567,319 | $4,567,151 | 03/01/05 | 03/01/05

Issued in Washington, DC on March 31, 2004.
JoAnn Horne,
Manager, Financial Analysis and Passenger Facility Charge Branch.

[FR Doc. 04-8371 Filed 4-12-04; 8:45 am]

BILLING CODE 4910-13-M